DEPARTMENT OF ENERGY

Federal Energy Regulatory Commission

[Docket No. PF08-28-000]

Henry Gas Storage, LLC; Notice of Intent To Prepare an Environmental Assessment for the Proposed Henry Gas Storage Project Request for Comments on Environmental Issues and Notice of Public Meeting

January 14, 2009.

The Federal Energy Regulatory Commission (FERC or Commission) is in the process of preparing an environmental assessment (EA) on the environmental impacts of the Henry Gas Storage Project (HGS Project) involving the construction and operation of a new natural gas storage facility and new natural gas pipeline proposed by Henry Gas Storage, LLC (HGS).

This notice announces the opening of the scoping process that will be used to gather input from the public and interested agencies on the Project. Your input will help determine which issues will be evaluated in the EA. Please note that the scoping period for this Project will close on February 13, 2009.

Comments on the Project may be submitted in written form or verbally. In lieu of, or in addition, to sending written comments, we also invite you to attend the public scoping meeting that has been scheduled in the Project area on January 27, 2009. Details on how to submit comments and additional details of the public scoping meeting are provided in the Public Participation section of this notice.

This notice is being sent to affected landowners; federal, state, and local government representatives and agencies; environmental and public interest groups; Native American tribes; other interested parties; and local libraries and newspapers. We ¹ encourage government representatives to notify their constituents of this planned project and encourage them to comment on their areas of concern.

¹ “We”, “us”, and “our” refer to the environmental staff of the Office of Energy Projects (OEP).

If you are a landowner receiving this notice, you may be contacted by a pipeline company representative about the acquisition of an easement to construct, operate, and maintain the proposed pipeline facilities. The pipeline company would seek to negotiate a mutually acceptable agreement. However, if the Project is approved by the Commission, that approval conveys with it the right of federal eminent domain. Therefore, if easement negotiations fail to produce an agreement, the pipeline company could initiate condemnation proceedings in accordance with state law.

A fact sheet prepared by the FERC entitled “An Interstate Natural Gas Facility On My Land? What Do I Need To Know?” was attached to the project notice HGS provided to landowners. This fact sheet addresses a number of typically asked questions, including the use of eminent domain and how to participate in the Commission's proceedings. It is available for viewing on the FERC Internet Web site (http://www.ferc.gov).

Summary of the Proposed Project

HGS proposes to construction and operate an 11.5 billion cubic-feet capacity natural gas salt-dome storage facility on Cote Blanche Island in St. Mary Parish, Louisiana as well as a 12-mile, 24-inch-diameter pipeline lateral. The HGS Project would have a withdrawal capacity of 2.6 billion cubic feet (bcf) of natural gas per day and an injection capacity of up to 1 bcf per day.

Location maps depicting the proposed facilities are attached to this NOI as Appendix 1.² HGS anticipates filing its application in March 2009 with a request that the Commission issue a certificate by September 2009. HGS plans to complete the proposed project and commence service by April 2012.

Specifically, HGS proposes the following primary components for the HGS Project:

² The appendices referenced in this notice are not printed in the Federal Register, but they are being provided to all those who receive this notice in the mail. Copies of the NOI can be obtained from the Commission's Web site at the “eLibrary” link, from the Commission's Public Reference Room, or by calling (202) 502-8371. For instructions on connecting to eLibrary, refer to the end of this notice.

• Main Plant Site—Approximately 367 acres which would include the following:

→ Solution mining equipment;

→ Gas dehydration system;

→ Gas meter and pig launcher and receiving facilities;

→ Power generation, utility systems, safety and fire equipment; and

→ Compressor Station which would consist of 14 reciprocating gas-fired engine/compressor packages with a total of 66,220 horsepower;

• Four salt dome natural gas storage caverns;

• Brine decanting tank site;

• Raw water intake;

• Ferry landing, barge dock & helipad site;

• Approximately 25 miles of subsea 24-inch diameter brine disposal pipeline terminating at the brine disposal outlet;

• Brine disposal outlet approximately 6.5 miles south-southeast of Marsh Island in Iberia Parish Louisiana;

• Approximately 12 miles of 24-inch diameter natural gas pipeline;

• Eight tie-in and metering facilities along the natural gas pipeline route; and

• Pipe fabrication yard.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we will discuss impacts that could occur as a result of the construction and operation of the proposed project under these general headings:

• Geology and Soils.

• Water Resources.

• Aquatic Resources.

• Vegetation and Wildlife.

• Threatened and Endangered Species.

• Land use, Recreation, and Visual Resources.

• Cultural Resources.

• Socioeconomics.

• Air Quality and Noise.

• Reliability and Safety.

• Cumulative Impacts.

We will also evaluate reasonable alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission. To ensure your comments are considered, please carefully follow the instructions in the public participation section below.

With this NOI, we are asking federal, state, and local agencies with jurisdiction and/or special expertise with respect to environmental issues to formally cooperate with us in the preparation of the EA. These agencies may choose to participate once they have evaluated the proposal relative to their responsibilities. Additional agencies that would like to request cooperating agency status should follow the instructions for filing comments provided under the Public Participation section of this NOI.

Currently Identified Environmental Issues

We have already identified issues that we think deserve attention based on our previous experience with similar projects in the region. This preliminary list of issues, which is presented below, may be revised based on your comments and our continuing analyses specific to the HGS Project.

• Impacts of the pipeline on waterbodies, wetlands and endangered species;

• Air quality impacts due to emissions from compressor station;

• Water quality and fisheries impacts due to brine disposal; and

• Impacts to fisheries and oyster beds from the brine disposal pipeline.

Public Participation

You can make a difference by providing us with your specific comments or concerns about the HGS Project. Your comments should focus on the potential environmental effects, reasonable alternatives, and measures to avoid or lessen environmental impacts. The more specific your comments, the more useful they will be. To ensure that your comments are timely and properly recorded, please send in your comments so that they will be received in Washington, DC on or before February 13, 2009.

For your convenience, there are three methods which you can use to submit your written comments to the Commission. In all instances please reference the Project docket number PF08-28-000 with your submission. The docket numbers can be found on the front of this notice. The Commission encourages electronic filing of comments and has dedicated eFiling expert staff available to assist you at 202-502-8258 or efiling@ferc.gov.

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426;

Label one copy of the comments for the attention of Gas Branch 3, PJ-11.3.

The public scoping meeting (date, time, and location listed below) are designed to provide another opportunity to offer comments on the proposed Project. Interested groups and individuals are encouraged to attend the meetings and to present comments on the environmental issues that they believe should be addressed in the EA. A transcript of the scoping meeting will be generated so that your comments can be accurately recorded.

Date: Tuesday, January 27, Scoping Meeting, 6 to 8 p.m.

Location: Best Western, Forest Motor Inn & Restaurant, 1909 Main St., Franklin, LA 70538.

Environmental Mailing List

An effort is being made to send this notice to all individuals, organizations, and government entities interested in and/or potentially affected by the proposed project. This includes all landowners whose property may be used temporarily for project purposes, who have existing easements from the pipeline, or who own homes within distances defined in the Commission's regulations of certain aboveground facilities.

If you do not want to send comments at this time but still want to remain on our mailing list, please return the Information Request (Appendix 2). If you do not return the Information Request, you will be taken off the mailing list.

Becoming an Intervenor

Once HGS formally files its applications with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until formal applications are filed with the Commission.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202)502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E9-1348 Filed 1-22-09; 8:45 am]

BILLING CODE 6717-01-P